DEPARTMENT OF TRANSPORTATION

Federal Aviation Administration

Notice of Availability of a Draft Condensed Environmental Assessment, Request for Public Comment, and Notice of Opportunity To Request a Public Meeting for Chicago Midway International Airport, Chicago, Illinois

AGENCY: Federal Aviation Administration, DOT.

ACTION: Notice of availability of a draft condensed environmental assessment, request for public comment, and notice of opportunity to request a public meeting.

SUMMARY: The Federal Aviation Administration (FAA) announces the release of a Draft Condensed Environmental Assessment (Draft CEA) for the proposed airport improvements at the Chicago Midway International Airport (MDW). The purpose of the Draft CEA is to evaluate the potential environmental impacts from the decommissioning and redevelopment of Runway 13L-31R at MDW pursuant to the National Environmental Policy Act. The FAA is issuing this notice to advise the public that the Draft CEA will be made available for public comment and provide an opportunity to request a public meeting regarding the aforementioned project at MDW as part of the public involvement process for this project.

DATES: The Draft CEA is available for public review beginning on December 6, 2024, through January 7, 2025. Interested members of the public have until 11:59 p.m. Central Standard Time on January 7, 2025, to submit comments regarding the Draft CEA for consideration in the FAA's decision-making process.

ADDRESSES: Comments regarding the adequacy of the information disclosed in the Draft CEA may be submitted by letter or email to the address below:

Chicago Department of Aviation, ATTN: Aaron J. Frame, Deputy Commissioner of Planning, Noise, & Environment, 10510 W Zemke Road, Chicago, IL 60666, aaron.frame@cityofchicago.org.

If requested by a member of the public, the CDA will host an in-person public hearing regarding the Draft Condensed EA using an open house format. To request a public hearing, please contact the CDA at aaron.frame@cityofchicago.org and use the email subject line “Public Hearing Request Midway Runway 13L-31R”.

FOR FURTHER INFORMATION CONTACT: Craig Pullins, 2300 Devon Avenue, Suite 312, Des Plaines, Illinois 60018. 847-294-7354.

SUPPLEMENTARY INFORMATION: Runway 13L-31R is seldom used and does not meet current design standards applicable to a modern airfield. Runway 13L-31R is temporarily closed as of August 10, 2023, and is operating as temporary Taxiway H. The Chicago Department of Aviation (CDA) is requesting FAA approval to decommission Runway 13L-31R and repurpose the pavement for other airfield needs. The project will occur entirely on-airport.

The Draft CEA may be viewed on the following website: www.flychicago.com/community/environment.

(Authority: 42 U.S.C. 4321, 40 CFR 1501.9(c)(5)(ii), FAA Order 1050.1F, paragraph 2-5.3(b))

Issued in Des Plaines, Illinois on December 9, 2024.
Gary David Wilson,
Acting Manager, Chicago Airports District Office, FAA Great Lakes Region.

[FR Doc. 2024-29308 Filed 12-12-24; 8:45 am]

BILLING CODE 4910-13-P